DEPARTMENT OF TRANSPORTATION

National Highway Traffic Safety Administration

[U.S. DOT Docket No. NHTSA-2009-0037]

Reports, Forms, and Recordkeeping Requirements: Agency Information Collection Activity Under OMB Review

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections. This document describes one collection of information for which NHTSA intends to seek OMB approval.

DATES: Comments must be received on or before April 20, 2009.

ADDRESSES: Refer to the docket notice number cited at the beginning of this notice and send your comments by any of the following methods:

Federal eRulemaking Portal: Go to http://www.regulations.gov. Follow the instructions for submitting comments.

Fax: 202-493-2251.

Mail: U.S. Department of Transportation, Docket Operations, M-30, West Building Ground Floor, Room W12-140, 1200 New Jersey Ave., SE., Washington, DC 20590.

Hand Delivery: U.S. Department of Transportation, Docket Operations, M-30, West Building Ground Floor, Room W12-140, 1200 New Jersey Ave., SE., Washington, DC 20590, between 9 a.m. and 5 p.m., Monday through Friday, except Federal holidays.

FOR FURTHER INFORMATION CONTACT: Charlene Doyle, Contracting Officer's Technical Representative, Office of Regulatory Analysis and Evaluation, National Highway Traffic Safety Administration, 1200 New Jersey Ave., SE., NVS-431, Washington, DC 20590. Ms. Doyle's phone number is 202-366-1276 and her e-mail address is charlene.doyle@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following: (i) Whether the proposed collection of information is necessary for the proper performance of the functions of the agency, including whether the information will have practical utility; (ii) The accuracy of the agency's estimate of the burden of the proposed collection of information, including the validity of the methodology and assumptions used; (iii) How to enhance the quality, utility, and clarity of the information to be collected; and (iv) How to minimize the burden of the collection of information on those who are to respond, including the use of appropriate automated, electronic, mechanical, or other technological collection techniques or other forms of information technology, e.g., permitting electronic submissions of responses. In compliance with these requirements, NHTSA asks public comment on the following proposed collection of information:

Title: An In-Depth Examination of Pedestrian-Involved Hit-and-Run Crashes

Type of Request: New information collection requirement.

OMB Clearance Number: None.

Form Number: This collection of information uses no standard forms.

Abstract: The National Highway Traffic Safety Administration (NHTSA) was established to reduce the mounting number of deaths, injuries and economic losses resulting from motor vehicle crashes on the Nation's highways. As part of this statutory mandate, NHTSA is authorized to conduct research as a foundation for the development of motor vehicle standards and traffic safety programs. Between 1994 and 2006, nearly 66,000 pedestrian deaths were identified within the United States, 12,000 of those by hit-and-run crashes. Furthermore, the number of pedestrians injured was as high as 61,000 for the year 2006. The annual number of pedestrian deaths has decreased in the aforementioned period, but the number of hit-and-run deaths has remained roughly steady. Thus, the proportion of hit-and-run-related deaths every year has increased. Hit-and-run crashes can be very difficult to identify in existing data sources, and they are also likely to be underreported whenever there are no serious injuries. Even a modest reduction in such crashes would result in improved safety for pedestrians, as well as a reduction in the costs to society and the victims of these crashes. Little previous information or research characterizes hit-and-run crashes, particularly research that provides a set of recommendations and tools to reduce the magnitude of the problem. Most of the background literature centers on describing magnitude, temporal occurrence, and some gender and age trends of people involved in hit-and-run crashes. However, information about the physical environment, driver motivations, and countermeasures has not been extensively discussed in the literature.

Solnick and Hemenway (1995) conducted one of the most comprehensive studies on hit and run crashes. The authors noted that most hit-and-run crashes occurred during the weekend nights. Similarly, they determined that the likelihood of a senior driver leaving the scene is about half of that of a young driver. Likewise, this study found that male drivers tend to be more likely to run than their female counterparts—there were eight male hit-and-run drivers for every five female hit-and-run drivers. Although hit-and-run crashes are a significant component of crashes and crash-related pedestrian injuries and fatalities, the available research on these crashes is limited.

NHTSA is committed to developing effective programs that can reduce the incidence of pedestrian hit-and-run crashes. The best way to do this is to conduct an in-depth analysis of pedestrian-involved hit-and-run crashes to identify the characteristics, magnitude, and impacts on traffic safety. This study identifies the top 15 locations with high pedestrian-related hit-and-run fatalities. Then with a subset of these locations, an in-depth analysis will be conducted which will include a telephone survey of 900 drivers involved in a pedestrian collision where there are no current pending legal proceedings. Principal subgroups for analysis will be drivers who remained at the scene of the crash and those who fled, but were later identified. Participation by respondents would be voluntary. The sample would be drawn from court records in ten jurisdictions; the ten jurisdictions to be selected based upon an analysis of national crash data. NHTSA's information needs require a sampling approach that will identify drivers in hit-and-run crashes in the United States to allow a preliminary description of the differences between drivers who run and those who do not.

The questionnaire focuses on the circumstances leading up to the crash, the condition of the driver before and after the crash, the extent of any pedestrian injuries that resulted from the crash, and the response to the crash of the driver, the driver's passengers or bystanders. Standard demographics are asked at the beginning of the interview. In conducting the proposed survey, the interviewers would use computer assisted telephone interviewing to reduce interview length and minimize recording errors. The proposed survey would be anonymous and confidential.

Description of the Likely Respondents (Including Estimated Number, and Proposed Frequency of Response to the Collection of Information): Under this proposed effort, the Contractor would conduct 900 telephone interviews averaging approximately 30 minutes each. We expect to need to contact 9000 drivers to obtain this number of responses. The respondent sample would be selected from among drivers identified from police and court records as having been convicted of an offense resulting from a pedestrian-involved crash in jurisdictions having high numbers of such crashes. Using publicly available data sources drivers would be matched with telephone numbers. Each member of the sample would complete one interview.

Estimate of the Total Annual Reporting and Recordkeeping Burden Resulting From the Collection of Information: NHTSA estimates a 10% response rate, due to the sensitivity of the survey subject matter. In order to achieve a sample size of 900, a total of 9,000 individuals must be contacted and screened. The 8,100 individuals who are contacted, but who refuse or are otherwise ineligible for the survey, would require an average of 3 minutes to complete the screener questionnaire for a total of 405 hours. Each respondent in the final survey sample of 900 drivers would require an average of 30 minutes to complete the telephone interview or a total of 450 hours. Thus, the number of estimated reporting burden hours a year on the general public would be 855 for the proposed survey (405 for the incomplete surveys, and 450 for the full survey administration). The respondents would not incur any reporting cost from the information collection. The respondents also would not incur any recordkeeping burden or recordkeeping cost from the information collection.

Authority: 44 U.S.C. 3506(c)(2)(A).

James F. Simons,
Director, Office of Regulatory Analysis and Evaluation.

[FR Doc. E9-3470 Filed 2-18-09; 8:45 am]

BILLING CODE 4910-59-P